DEPARTMENT OF LABOR

Employment and Training Administration

[TA-W-71,871]

Watts Regulator, Including On-Site Leased Workers From Employment Control, D/B/A Employment Staffing, Inc., Spindale, NC; Amended Certification Regarding Eligibility To Apply for Worker Adjustment Assistance

In accordance with Section 223 of the Trade Act of 1974, as amended (“Act”), 19 U.S.C. 2273, the Department of Labor issued a Certification of Eligibility to Apply for Worker Adjustment Assistance on May 27, 2010, applicable to workers of Watts Regulator, including on-site leased workers from Employment Staffing, Inc., Spindale, North Carolina. The notice was published in the Federal Register on June 16, 2010 (75 FR 34174).

At the request of the State Agency, the Department reviewed the certification for workers of the subject firm. The workers are engaged in activities related to the production of valves, flexible PVC tubing, and injection molded rigid PVC tubing.

New information shows that on-site leased workers from Employment Staffing, Inc. separated from employment at the Spindale, North Carolina location of Watts Regulator, had their wages reported under a separate unemployment insurance (UI) tax account under their parent firm, Employment Control, D/B/A Employment Staffing.

Accordingly, the Department is amending this certification to properly reflect this matter.

The intent of the Department's certification is to include all workers of the subject firm who were adversely affected by increased customer imports of valves, flexible PVC tubing and injection molded rigid PVC tubing.

The amended notice applicable to TA-W-71,871 is hereby issued as follows:

All workers of Watts Regulator, including on-site leased workers from Employment Control, d/b/a Employment Staffing, Inc., Spindale, North Carolina, who became totally or partially separated from employment on or after July 30, 2008, through May 27, 2012, and all workers in the group threatened with total or partial separation from employment on date of certification through two years from the date of certification, are eligible to apply for adjustment assistance under Chapter 2 of Title II of the Trade Act of 1974, as amended.

Signed in Washington, DC, this 21st day of October 2010.
Elliott S. Kushner,
Certifying Officer, Division of Trade Adjustment Assistance.

[FR Doc. 2010-27382 Filed 10-28-10; 8:45 am]

BILLING CODE 4510-FN-P